SURFACE TRANSPORTATION BOARD

[Docket No. FD 36883]

Sunrise Industrial Rail, LLC—Lease and Change of Operator Exemption—Railroad Lines of Brookhaven Logistics Center, LLC, in Suffolk County, N.Y.

Sunrise Industrial Rail, LLC (Sunrise), a noncarrier, has filed a verified notice of exemption under 49 CFR 1150.31 to (1) lease and operate approximately 0.47 miles of rail line and 14,348 feet of additional track owned by Brookhaven Logistics Center, LLC (BLC), in Suffolk County, N.Y., (collectively, the Line); and (2) replace Brookhaven Rail, LLC (Brookhaven Rail), as the common carrier service provider. Sunrise indicates that the Line does not have mileposts.

According to the verified notice, the Line is currently operated by Brookhaven Rail pursuant to a railroad operating and sublicense agreement with BLC. The verified notice states that Sunrise and BLC are completing agreement terms under which Sunrise will lease the Line, among other assets, owned by BLC and Sunrise will replace Brookhaven Rail as the common carrier service provider on the Line.¹ Sunrise states that Brookhaven Rail does not object to the proposed change in operator.

¹ According to the verified notice, Brookhaven Rail also currently operates over approximately 12,500 feet of excepted track. (See Notice 5 (citing Brookhaven Rail Terminal—Pet. for Declaratory Ord., FD 35819 (STB served Aug. 30, 2016).) Authority from the Board may be required should Brookhaven Rail continue to operate over that track following consummation of this transaction. See Effingham R.R.—Pet. for Declaratory Ord.—Constr. At Effingham, Ill., 2 S.T.B. 606, 609-610 (1997) (Board has licensing authority over proposal by new carrier to construct and operate over excepted track that would constitute carrier's entire operation).

This transaction is related to a concurrently filed verified notice of exemption in OmniTRAX Holdings Combined, Inc.—Continuance in Control Exemption—Sunrise Industrial Rail, LLC, FD 36882, in which OmniTRAX Holdings Combined, Inc., and HGS Railway Holdings, Inc., seek to continue in control of Sunrise upon Sunrise's becoming a Class III rail carrier.

Sunrise certifies that its projected annual revenues as a result of the transaction will not exceed those that would qualify it as a Class III rail carrier and will not exceed $5 million. Sunrise also certifies that it will not be contractually limited in its ability to interchange traffic with any third-party connecting carrier. Under 49 CFR 1150.32(b), a change in operator requires that notice be given to shippers. Sunrise states that it has provided notice to all customers on the Line.

The transaction may be consummated on or after October 4, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 26, 2025 (at least seven days before the exemption becomes effective).

All pleadings, referring to Docket No. FD 36883, must be filed with the Surface Transportation Board either via e-filing on the Board's website or in writing addressed to 395 E Street SW, Washington, DC 20423-0001. In addition, a copy of each pleading must be served on Sunrise's representative, Daniel R. Elliott, GKG Law, PC, 1055 Thomas Jefferson Street NW, Suite 620, Washington, DC 20007.

According to Sunrise, this action is categorically excluded from environmental review under 49 CFR 1105.6(c) and from historic preservation reporting requirements under 49 CFR 1105.8(b).

Board decisions and notices are available at www.stb.gov.

Decided: September 12, 2025.
By the Board, Anika S. Cooper, Chief Counsel, Office of Chief Counsel.
Brendetta Jones,
Clearance Clerk.

[FR Doc. 2025-17943 Filed 9-16-25; 8:45 am]

BILLING CODE 4915-01-P